DEPARTMENT OF HEALTH AND HUMAN SERVICES

Administration for Community Living

Agency Information Collection Activities: Submission for OMB Review; Public Comment Request; ACL Consolidated Program Performance Report (OMB Control Number 0985-New)

AGENCY: Administration for Community Living, HHS.

ACTION: Notice.

SUMMARY: The Administration for Community Living (ACL) is announcing that the proposed collection of information listed above has been submitted to the Office of Management and Budget (OMB) for review and clearance as required under section 506(c)(2)(A) of the Paperwork Reduction Act of 1995. This 30-day notice collects comments on the information collection requirements related to the proposed new information collection relating to the ACL Consolidated Program Performance Report (OMB Control Number 0985-New).

DATES: Comments on the collection of information must be submitted electronically by 11:59 p.m. (EST) or postmarked by October 28, 2024.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attention: OMB Desk Officer for ACL.

FOR FURTHER INFORMATION CONTACT: Shannon Skowronski, ACL Office of Performance and Evaluation, phone: 202-795-7438 and email: evaluation@acl.hhs.gov.

SUPPLEMENTARY INFORMATION: In compliance with 44 U.S.C. 3507, ACL has submitted the following proposed collection of information to OMB for review and clearance. This announcement solicits comments on the ACL Consolidated Program Performance Report, a mechanism to collect program performance reports for programs authorized by the Older Americans Act (Pub. L. 89-27 of 1965, as amended through Pub. L. 116-131 of 2020). The purpose of this new information collection request (ICR), is to collect program performance data for ACL formula and competitive grant programs authorized by the Older Americans Act (OAA), as required by and in accordance with Public Law 116-131 and 42 U.S.C. chapter 7, subchapter XX, division B (authorizing legislation); 45 CFR 75.342 (monitoring and reporting program performance); 45 CFR 75.301 (performance measurement); and the GPRA Modernization Act of 2010 (Pub. L. 111-352, sec. 12). ACL is primarily a grant-making agency whose mission is to maximize the independence, well-being, and health of older adults, people with disabilities across the lifespan, and their families and caregivers by supporting partnerships and providing funding, guidance, training, and technical assistance. The collection of program performance data is required for all ACL grantees, including grants authorized by the OAA, to:

1. Monitor achievement of program performance objectives,

2. Identify areas of performance that may benefit from technical assistance and/or corrective action,

3. Establish program policy and direction, and

4. Prepare responses and reports for Congress, the Office of Management and Budget (OMB), the public, and legislatively required reports.

If ACL did not collect program performance data, the agency would be unable to monitor and manage program performance as expected or develop program changes or improvements directed toward assuring the most effective use of limited OAA funds. ACL consistently looks for ways to streamline the collection of required program performance data. The proposed ACL Consolidated Program Performance Report is an efficient mechanism for the collection of program performance data elements across OAA authorized programs, and ensures each programs' indicators, demographics, priorities, and objectives are being achieved. The collection of performance elements will enable ACL to analyze program performance broadly across its grantee portfolio, allowing ACL and its grantees to align measures over time.

This new ICR will gather program performance data for OAA authorized grant programs under one consolidated report replacing OMB control numbers under the Performance (Progress) Report for AoA Grantees (0985-0006) and the State Performance Report for FY 2022-2025 (0985-0072).

Comments in Response to the 60-Day Federal Register Notice

A 60-day notice published in the Federal Register on December 5, 2023, at 88 FR 84335-84336. This 30-day notice publication makes correction to the information collection type in the previous 30-day notice published in the Federal Register on March 25, 2024, at 89 FR 20663-20664. That notice requested public comment on this information collection as a generic ICR.

During the 60-day public comment period, ACL received two comments related to the ACL Program Performance Report Template. A summary of the comments and the ACL response is provided below:

Comment #1: Suggest including more specific instructions for completing the elements in the proposed ACL Program Performance Report Template:

ACL response: While ACL appreciates this suggestion, the instructions for completing the elements must be somewhat broad in order to account for differences in the goals, objectives, and activities across the programs.

Comment #2: Request confirmation that the grantee will be responsible for submitting a comprehensive program performance report each reporting period to ACL (as opposed to having grantees' subcontractors each submit individual reports to ACL).

ACL response: Although grantees could work with their subcontractors to gather information to complete their program performance report, grantees would be responsible for submitting a comprehensive program performance report for the specified reporting period.

Estimated Program Burden

ACL estimates the burden of this collection of information as follows:

Respondent/data collection activity | Number of respondents | Responses per respondent | Hours per response | Annual burden hours
Older Americans Act Title IV Grantee Performance Reports | 1,189 | 2 | 10 | 23,780
Older Americans Act Title III and VII Grantee Performance Reports | 56 | 1 | 70 | 3,920
Total Estimated Burden |  |  |  | 27,700

Dated: September 21, 2024.
Alison Barkoff,
Principal Deputy Administrator for the Administration for Community Living, performing the delegable duties of the Administrator and the Assistant Secretary for Aging.

[FR Doc. 2024-22036 Filed 9-25-24; 8:45 am]

BILLING CODE 4154-01-P